FEDERAL COMMUNICATIONS COMMISSION

[Report No. 2840]

Petitions for Reconsideration and Clarification of Action in Rulemaking Proceeding

November 6, 2007.

Additional Petitions for Reconsideration and Clarification have been filed in the Commission's Rulemaking proceeding listed in this Public Notice and published pursuant to 47 CFR 1.429(e). (See Report No. 2836, released October 15, 2007 in the 87-268 Docket. This Report No. 2840 constitutes the second Public Notice; the first was published in the Federal Register on October 22, 2007. The pleading cycle for the Petitions listed in Report 2836 required Oppositions to be filed by November 6 and Replies to be filed by November 16.) The full text of these documents are available for viewing and copying in Room CY-B402, 445 12th Street, SW., Washington, DC or may be purchased from the Commission's copy contractor, Best Copy and Printing, Inc. (BCPI) (1-800-378-3160). Oppositions to these petitions must be filed by December 3, 2007. See Section 1.4(b)(1) of the Commission's rules (47 CFR 1.4(b)(1)). Replies to oppositions must be filed within 10 days after the time for filing oppositions have expired.

Subject: In the Matter of Advanced Television Systems and Their Impact Upon the Existing Television Broadcast Service (MB Docket No. 87-268).

Number of Petitions Filed: 90.

Marlene H. Dortch,
Secretary.

[FR Doc. E7-22522 Filed 11-15-07; 8:45 am]

BILLING CODE 6712-01-P